DEPARTMENT OF DEFENSE

Office of the Secretary

[Docket ID: DOD-2016-OS-0010]

Privacy Act of 1974; System of Records

AGENCY: Office of the Secretary of Defense, DoD.

ACTION: Notice to alter a System of Records.

SUMMARY: The Office of the Secretary of Defense proposes to alter a system of records notice DPFPA 02, entitled “Pentagon Reservation Vehicle Parking Program” to manage the Pentagon Facilities Parking Program for DoD civilian, military, and contractor personnel applying for and in receipt of Pentagon parking permits. Records are also used to ensure DoD military personnel and civilians are not in receipt of both an issued parking pass and mass transit benefits.

DATES: Comments will be accepted on or before March 14, 2016. This proposed action will be effective on the date following the end of the comment period unless comments are received which result in a contrary determination.

ADDRESSES: You may submit comments, identified by docket number and title, by any of the following methods:

• Federal Rulemaking Portal: http://www.regulations.gov.

Follow the instructions for submitting comments.

• Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a(r) of the Privacy Act, as amended, were submitted on February 4, 2016, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: February 8, 2016.
Aaron Siegel,
Alternate OSD Federal Register Liaison Officer, Department of Defense.

DPFPA 02

System name:

Pentagon Reservation Vehicle Parking Program (October 20, 2010, 75 FR 64713).

Changes:

System ID:

Delete entry and replace with “DWHS D04”.

System name:

Delete entry and replace with “Pentagon Facilities Parking Program.”

* * * * *

Categories of individuals covered by the system:

Delete entry and replace with “All DoD civilians, military, and contractors holding DoD parking permits, participating in DoD carpools, or are otherwise authorized to park at the Pentagon Reservation (to include the Pentagon, Mark Center, and Suffolk Building). This includes concessionaires and custodial workers who are authorized to park at Pentagon Facilities.”

Categories of records in the system:

Delete entry and replace with “Full name, Social Security Numbers (SSN), work email address, rank/grade, work location, work telephone number, home zip code, organizational affiliation, vehicle license plate number, state, and parking permit number.”

Authority for maintenance of the system:

Delete entry and replace with “10 U.S.C. 2674, Operation and Control of Pentagon Reservation and Defense Facilities in National Capital Region; and Administrative Instruction 88, Pentagon Reservation Vehicle Parking Program, and E.O. 9397 (SSN), as amended.”

Purpose(s):

Delete entry and replace with “To manage the Pentagon Facilities Parking Program for DoD civilian, military, and contractor personnel applying for and in receipt of Pentagon parking permits. Records are also used to ensure DoD military personnel and civilians are not in receipt of both an issued parking pass and mass transit benefits.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use:

Disclosure from a system of records maintained by a DoD Component may be made to a congressional office from the record of an individual in response to an inquiry from the congressional office made at the request of that individual.

Disclosure to the Department of Justice for Litigation Routine Use:

A record from a system of records maintained by a DoD Component may be disclosed as a routine use to any component of the Department of Justice for the purpose of representing the Department of Defense, or any officer, employee or member of the Department in pending or potential litigation to which the record is pertinent.

Disclosure of Information to the National Archives and Records Administration Routine Use:

A record from a system of records maintained by a DoD Component may be disclosed as a routine use to the National Archives and Records Administration for the purpose of records management inspections conducted under authority of 44 U.S.C. 2904 and 2906.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices apply to this system. The complete list of DoD Blanket Routine Uses can be found Online at: http://dpcld.defense.gov/Privacy/SORNsIndex/BlanketRoutineUses.aspx.”

Policies and practices for storing, retrieving, accessing, retaining, and disposing of records in the system:

* * * * *

Retrievability:

Delete entry and replace with “Full name, SSN, parking permit number, and vehicle tag number.”

Safeguards:

Delete entry and replace with “Records are maintained in controlled areas accessible only to authorized DoD personnel, including system users, system administrators, and authorized contractors who have a need-to-know in the performance of official duties and who are properly screened and cleared. Physical entry is restricted by the use of locks, guards, identification badges, key cards and closed circuit TV. Paper records are stored in locked cabinets in secured offices. Access to personal information is further restricted by the use of Common Access Card and user ID/passwords, intrusion detection system, encryption, and firewalls. Administrative procedures include periodic security audits, regular monitoring of users' security practices, methods to ensure only authorized personnel access to Personally Identifiable Information (PII) and encryption of back-up and recovery Standard Operating Procedures.”

Retention and disposal:

Delete entry and replace with “Destroy credentials three months after return to issuing office.”

System manager(s) and address:

Delete entry and replace with “Chief, Parking Management Branch, Washington Headquarters Services, 1155 Defense Pentagon, Washington, DC 20301-1155.”

Notification procedure:

Delete entry and replace with “Individuals seeking to determine whether information about themselves is contained in this system should address written inquiries to the Chief, Parking Management Branch, Washington Headquarters Services, 1155 Defense Pentagon, Washington, DC 20301-1155.

Signed, written requests for information should contain the full name, SSN, and current address.”

Record access procedures:

Delete entry and replace with “Individuals seeking access to information about themselves contained in this system should address written inquiries to the Office of the Secretary of Defense/Joint Staff Freedom of Information Act Requester Service Center, 1155 Defense Pentagon, Washington, DC 20301-1155.

Signed, written requests for information should contain the full name, SSN, current address and number of this system of records notice.”

* * * * *

[FR Doc. 2016-02788 Filed 2-10-16; 8:45 am]

BILLING CODE 5001-06-P